DEPARTMENT OF THE INTERIOR

Fish and Wildlife Service

National Wildlife Refuge System; National Wildlife Refuge System Centennial Commission Meeting

AGENCY: Fish and Wildlife Service, Interior.

ACTION: Notice of meeting of National Wildlife Refuge Centennial Commission.

SUMMARY: In accordance with the Federal Advisory Committee Act (Pub. L. 92-463, 86 Stat. 770, 5 U.S.C. App1, section 10), notice is hereby given that the National Wildlife Refuge System Centennial Commission will hold its second meeting.

DATES: The meeting will be held September 24 and 25, 2002 in Washington, DC. The meeting will convene at 12 noon on September 24 and end at approximately 5:30 p.m., begin again at 8 a.m. on September 25 and conclude at 12 noon.

ADDRESSES: The meeting is scheduled to be held at: Loew's L'Enfant Plaza Hotel, 480 L'Enfant Plaza, SW., Washington, DC 20024.

FOR FURTHER INFORMATION CONTACT: Laurie Shaffer, 703-358-2035.

SUPPLEMENTARY INFORMATION: The Centennial Commission was established by Title III, Section 303 of the Fish and Wildlife Programs Improvement and National Wildlife Refuge System Centennial Act of 2000 (H.R. 3671). The purpose of the Commission is to prepare, in cooperation with Federal, State, local, and nongovernmental partners, a plan to commemorate the centennial of the National Wildlife Refuge System beginning on March 14, 2003. They are also charged with planning a conference for the Centennial year.

The meeting will be open to the public, however, facilities and space of accommodating members of the public are limited and persons will be accommodated on a first-come first-served basis.

Assistance to Individuals With Disabilities at the Public Meeting

The meeting site is accessible to individuals with disabilities. If you plan to attend and will need an auxiliary aid or service to participate in the meeting (e.g., interpreting service, assistive listening device or materials in an alternate format), notify the contact person listed in this notice at least 2 weeks before the scheduled meeting date. We will make attempts to meet any request(s) received after that date, however, the requested auxiliary aid or service may not be available due to insufficient time.

Anyone may file with the Commission a written statement concerning matters to be discussed. The Commission may also permit attendees to address the Commission but may restrict the length of the presentations, as necessary, to allow the Commission to complete its agenda within the allotted time.

Interested persons may file written statements with the Commission prior to the business meeting. Written statements may be sent to the Director, U.S. Fish and Wildlife Service, attention: Centennial Commission Coordinator at least 7 days prior to the meeting. Further information regarding the meeting may be obtained from the Division of Visitor Services and Communications, National Wildlife Refuge System, 4401 N. Fairfax Drive, Arlington, VA 22203. Telephone: 703-358-2035.

Draft minutes of the meeting will be available for public inspection approximately 6 weeks after the meeting in Room 600, 4401 N. Fairfax Drive, Arlington, VA 22203.

Matters to be Considered: Major topics for discussion during this meeting include:

Welcome

Objectives of the meeting

Minutes of the last meeting

Addition and corrections to the agenda

Business:

1. Centennial Events and Plans

2. Conference Proposal

3. Funding opportunities and partnerships

Closing remarks (including summary of accomplishments of the meeting, date of next proposed meeting, assignment of tasks).

The Commission will also discuss organizational and administrative needs.

Dated: August 29, 2002.
Steve Williams,
Director, U.S. Fish and Wildlife Service.

[FR Doc. 02-24283 Filed 9-24-02; 8:45 am]

BILLING CODE 4310-55-P